DEPARTMENT OF AGRICULTURE

Natural Resources Conservation Service

Notice of Availability

AGENCY: Natural Resources Conservation Service, USDA.

ACTION: Notice of availability.

SUMMARY: The Record of Decision (ROD) for the Coal Creek Flood Control and Parkway Final Environmental Impact Statement is now available to the public. On September 1, 2006, the Natural Resources Conservation Service (NRCS) published a Final Environmental Impact Statement consistent with the National Environmental Policy Act of 1969, as amended, to disclose potential effects to the human environment resulting from proposed flood control improvements to Coal Creek in Cedar City, Utah. The ROD authorizes implementation of Alternative C (Replace Main Street diversion/drop structure) in conjunction with the North Field Canal Option and Parkway Option C1.

DATES: Effective Date: October 2, 2006.

FOR FURTHER INFORMATION CONTACT: Marnie Wilson, Coal Creek EIS, USDA-NRCS, Wallace F. Bennett Federal Building, 125 South State Street, Room 4402, Salt Lake City, UT 84138-1100. Project information is also available on the Internet at: http://www.ut.nrcs.usda.gov under Public Notices.

SUPPLEMENTARY INFORMATION: Copies of the Final EIS and ROD are available by request from Marnie Wilson at the address listed above. Basic data developed during the environmental evaluation are on file and may be reviewed by contacting Sylvia Gillen, Utah State Conservationist.

Signed in Salt Lake City, Utah on September 21, 2006.
Sylvia A. Gillen,
State Conservationist.

[FR Doc. E6-16373 Filed 10-2-06; 8:45 am]

BILLING CODE 3410-16-P